NUCLEAR WASTE TECHNICAL REVIEW BOARD

Board Meeting

The U.S. Nuclear Waste Technical Review Board will hold a hybrid (in-person/virtual) public meeting on August 29, 2024.

Board meeting: August 29, 2024—The U.S. Nuclear Waste Technical Review Board will hold a hybrid (in-person/virtual) meeting in North Augusta, South Carolina, on Thursday, August 29, 2024, to review information on the U.S. Department of Energy's (DOE) management and plans for disposal of DOE spent nuclear fuel (SNF) and to receive program updates from DOE's Office of Nuclear Energy (DOE-NE).

Pursuant to its authority under section 5051 of Public Law 100-203, Nuclear Waste Policy Amendments Act (NWPAA) of 1987, the U.S. Nuclear Waste Technical Review Board will hold a hybrid (in-person/virtual) meeting in North Augusta, South Carolina, on Thursday, August 29, 2024, to review information on the U.S. Department of Energy's (DOE) management and plans for disposal of DOE spent nuclear fuel (SNF). The meeting will begin with a program update from DOE's Office of Nuclear Energy (DOE-NE) on its reprioritization of storage, transportation, and disposal research and development (R&D) activities. One speaker will also provide an update on DOE-NE's federal consolidated interim storage facility for commercial SNF and consent-based siting efforts.

The hybrid (in-person/virtual) meeting will be held at the Crowne Plaza North Augusta at 1060 Center Street in North Augusta, South Carolina. The hotel telephone number is 803-349-8400. The hotel website is https://www.ihg.com/crowneplaza/hotels/us/en/north-augusta/aikna/hoteldetail. On Thursday, August 29, the meeting will begin at 8:00 a.m. Eastern Daylight Time (EDT) and is scheduled to adjourn at approximately 5:00 p.m. EDT. DOE speakers will provide an overview of DOE SNF storage, transportation, and plans for disposal. Other speakers will describe DOE's Office of Environmental Management (DOE-EM) SNF technology development activities. Additional speakers will report on SNF management activities at the Savannah River Site including current SNF storage, the accelerated basin de-inventory project, and management alternatives for stored SNF after completion of the de-inventory project. Speakers will describe SNF management activities at the Idaho National Laboratory, including the Idaho Road-Ready SNF Demonstration. A detailed meeting agenda will be available on the Board's website at www.nwtrb.gov approximately one week before the meeting.

The meeting will be open to the public, and there will be an opportunity for public comment at the end of the meeting. Those attending the meeting in person and wishing to provide oral comments are encouraged to sign-in using the Public Comment Register at the check-in table near the entrance to the meeting room. Oral commenters will be taken in the order in which they signed in. Public comments may also be submitted during the meeting via the online meeting viewing platform, using the “Comment for the Record” form. Comments submitted online during the day of the meeting may be read into the record by Board staff during the public comment period if time allows. Depending on the number of speakers and online comments, a time limit on individual remarks may be set. Written comments of any length may be submitted to the Board staff by mail or electronic mail. Comments received in writing will be included in the meeting record, which will be posted on the Board's website. An archived recording of the meeting will be available on the Board's website following the meeting, and a transcript of the meeting will be available on the website by November 1, 2024.

The Board is an independent federal agency in the Executive Branch. It was established in the Nuclear Waste Policy Amendments Act of 1987 (Pub. L. 100-203) to perform ongoing evaluation of the technical and scientific validity of U.S. Department of Energy activities related to developing and implementing a program for the management and disposal of spent nuclear fuel and high-level radioactive waste, in accordance with the terms of the Nuclear Waste Policy Act of 1982. Board members serve part-time and are appointed by the President from a list of nominees submitted by the National Academy of Sciences. The Board reports its findings, conclusions, and recommendations to Congress and the Secretary of Energy. Board reports, correspondence, congressional testimony, meeting transcripts, and related materials are posted on the Board's website.

For information regarding the meeting, contact Mr. Christopher Burk at burk@nwtrb.gov, or by phone at 703-235-4486, or Dr. Bret Leslie at leslie@nwtrb.gov, or by phone at 703-235-9132. For information on meeting logistics, contact Ms. Davonya Barnes at barnes@nwtrb.gov, or by phone at 703-235-9141. All three may be reached by mail at 2300 Clarendon Boulevard, Suite 1300, Arlington, VA 22201-3367; or by fax at 703-235-4495.

Dated: August 1, 2024.
Neysa M. Slater-Chandler,
Director of Administration, U.S. Nuclear Waste Technical Review Board.

[FR Doc. 2024-17383 Filed 8-6-24; 8:45 am]

BILLING CODE 6820-AM-P